DEPARTMENT OF ENERGY

Federal Energy Regulatory Commission

[Docket No. ES03-16-000]

Wayne-White Counties Electric Cooperative, Notice of Application

December 18, 2002.

Take notice that on December 10, 2002, Wayne-White Counties Electric Cooperative (Wayne-White) submitted an application pursuant to section 204 of the Federal Power Act seeking authorization to make long-term borrowings under a loan agreement with the National Rural Utilities Cooperative Finance Corporation in an amount not to exceed $14,886,531.02.

Wayne-White also requests a waiver of the Commission's competitive bidding and negotiated placement requirements at 18 CFR 34.2.

Any person desiring to be hear or to protest said filing should file a motion to intervene or protest with the Federal Energy Regulatory Commission, 888 First Street, NE., Washington, DC 20426, in accordance with Rules 211 and 214 of the Commission's Rules of Practice and Procedure (18 CFR 385.211 and 18 CFR 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's Web site at http://www.ferc.gov , using the “FERRIS” link. Enter the docket number excluding the last three digits in the docket number filed to access the document. For assistance, please contact FERC Online Support at FERCOnlineSupport@ferc.gov or toll-free at (866)208-3676, or for TTY, contact (202)502-8659. Protests and interventions may be filed electronically via the Internet in lieu of paper; see 18 CFR 385.2001(a)(1)(iii) and the instructions on the Commission's Web site under the “e-Filing” link. The Commission strongly encourages electronic filings.

Comment Date: January 3, 2003.

Linwood A. Watson, Jr.,
Deputy Secretary.

[FR Doc. 02-32481 Filed 12-23-02; 8:45 am]

BILLING CODE 6717-01-P